DEPARTMENT OF THE INTERIOR

National Park Service

Meetings: National Park Subsistence Resource Commission

AGENCY: National Park Service, Interior.

ACTION: Announcement of the National Park Subsistence Resource Commission (SRC) meetings.

SUMMARY: The National Park Service (NPS) announces the SRC meeting schedule for the following NPS areas within the Alaska Region: Denali National Park, Gates of the Arctic National Park, and Wrangell-St. Elias National Park. The purpose of each meeting is to develop and continue work on subsistence hunting program recommendations and other related subsistence management issues. Each meeting is open to the public and will have time allocated for public testimony. The public is welcomed to present written or oral comments to the SRC.

The NPS SRC program is authorized under Title VIII, Section 808, of the Alaska National Interest Lands Conservation Act, Public Law 96-487, to operate in accordance with the provisions of the Federal Advisory Committee Act. Draft meeting minutes will be available for public inspection approximately six weeks after each meeting.

DATES: The meeting times and locations are:

1. Gates of the Arctic National Park SRC, Tuesday, May 17, 2005, from 10 a.m. to 5 p.m., Wednesday, May 18, 2005, from 9:30 a.m. to 5 p.m., and Thursday, May 19, 2005, from 9:30 a.m. to 5 p.m. at the National Park Service Coldfoot Visitor's Center, Telephone: (907) 678-2004.

FOR FURTHER INFORMATION CONTACT: Gates of the Arctic National Park and Preserve, Dave Mills, Superintendent, at Telephone (907) 457-5752 or, Fred Andersen, Subsistence Manager, at (907) 455-0621. Address: 201 First Ave., Fairbanks, AK, 99701.

2. Denali National Park SRC, Friday, August 12, 2005, from 9:30 a.m. to approximately 5 p.m. at the Nord Haven Motel at Mile 249 on the Parks Highway in Healy, AK. Telephone: (907) 683-4500.

FOR FURTHER INFORMATION CONTACT: Denali National Park and Preserve, Hollis Twitchell, Subsistence Manager, P.O. Box 9, Denali Park, AK 99755. Telephone: (907) 455-0673 or (907) 683-9544.

3. Wrangell-St. Elias National Park SRC, Thursday, September 22, 2005, and Friday, September 23, 2005, from 9:30 a.m. to 5 p.m. in Tok, Alaska, at a meeting location to be announced by the Superintendent Wrangell-St. Elias National Park and Preserve.

FOR FURTHER INFORMATION CONTACT: Wrangell-St. Elias National Park and Preserve, Barbara Cellarius, Subsistence Manager/Cultural Anthropologist, P.O. Box 439, Copper Center, AK 99573. Telephone: (907) 822-7236.

SUPPLEMENTARY INFORMATION: SRC meeting locations and dates may need to be changed based on weather or local circumstances. Notice of each meeting will be published in local newspapers and announced on local radio stations prior to the meeting dates. The agendas for each meeting include the following:

1. Call to order (SRC Chair).

2. SRC Roll Call and Confirmation of Quorum.

3. SRC Chair and Superintendent's Welcome and Introductions.

4. Review and Approve Agenda.

5. Review and adopt minutes from last meeting.

6. Review Commission Purpose, SRC Membership.

7. Commission Member Reports.

8. Superintendent and NPS Staff Reports.

9. Federal Subsistence Board Update: Wildlife and Fisheries Proposals and Actions.

10. New Business.

11. Agency and Public Comments.

12. SRC Work Session. Prepare correspondence and hunting program recommendations.

13. Set time and place of next SRC meeting.

14. Adjournment.

Vic Knox,
Deputy Regional Director, Alaska Region.

[FR Doc. 05-9567 Filed 5-12-05; 8:45 am]

BILLING CODE 4310-HT-P